INTERNATIONAL TRADE COMMISSION

[Investigation No. 337-TA-591]

In the Matter of Certain Wireless Conference Calling Devices, Components Thereof, and Devices Containing the Same; Notice of Commission Decision Not To Review Initial Determination Granting Motion To Withdraw Complaint and Terminate Investigation

AGENCY: U.S. International Trade Commission.

ACTION: Notice.

SUMMARY: Notice is hereby given that the U.S. International Trade Commission has determined not to review the presiding administrative law judge's (“ALJ”) initial determination (“ID”) (Order No. 3) granting the motion to withdraw the complaint and terminate the above-captioned investigation.

FOR FURTHER INFORMATION CONTACT: Eric Frahm, Office of the General Counsel, U.S. International Trade Commission, 500 E Street, SW., Washington, DC 20436, telephone (202) 205-3107. Copies of the ALJ's ID and all other non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On January 31, 2007, the Commission instituted an investigation under section 337 of the Tariff Act of 1930, 19 U.S.C. 1337, based on a complaint (December 29, 2006) and supplemental complaint (January 17, 2007) filed by Callpod, Inc. of Chicago, Illinois, alleging a violation of section 337 in the importation, sale for importation, and sale within the United States after importation of certain wireless conference calling devices, components thereof, and devices containing same by reason of infringement of claims 1, 3, 6, 9, 10, 12, and 15 of U.S. Patent No. 6,801,611. 72 FR 5300-01 (February 5, 2007). The complaint, as supplemented, named GN Netcom, Inc. of Nashua, NH; GN Netcom A/S of Ballerup, Denmark; and GN Store Nord A/S of Ballerup, Denmark as respondents.

On April 5, 2007, the complainant moved to withdraw the complaint and terminate the investigation. On April 16, 2007, the Commission Investigative Staff filed a response in support of complainant's motion to withdraw the complaint. On April 18, 2007, respondents filed a response in partial opposition to complainant's motion to withdraw.

On April 30, 2007, the ALJ issued an ID (Order No. 3) (copy attached) granting the motion to withdraw the complaint and terminate the investigation. The ALJ found no indication that termination of the investigation would adversely affect the public interest, and that the procedural requirements for terminating the investigation had been met. No petitions for review were filed.

The Commission has determined not to review the ID.

The authority for the Commission's determination is contained in section 337 of the Tariff Act of 1930, as amended (19 U.S.C. 1337), and in section 210.42 of the Commission's Rules of Practice and Procedure (19 CFR 210.42).

By order of the Commission.
Issued: May 24, 2007.
Marilyn R. Abbott,
Secretary to the Commission.

[FR Doc. E7-10293 Filed 5-29-07; 8:45 am]

BILLING CODE 7020-02-P